FEDERAL COMMUNICATIONS COMMISSION

47 CFR Part 64

[CC Docket No. 94-129; DA 00-1220]

Common Carrier Bureau Extends Pleading Cycle on Proposal to Require Resellers to Obtain Carrier Identification Codes

AGENCY: Federal Communications Commission.

ACTION: Reopening of comment period.

SUMMARY: This document extends the comments and reply comments due dates of a document published at 65 FR 33281 (May 23, 2000). The Common Carrier Bureau published a document soliciting comments on proposals in this proceeding to require resellers to obtain their own carrier identification codes.

DATES: Submit comments on or before June 13, 2000 and reply comments on or before June 20, 2000.

ADDRESSES: See 65 FR 33281 (May 23, 2000) for where and how to file comments.

FOR FURTHER INFORMATION CONTACT: William J. Scher or Dana Walton-Bradford (202) 418-7400 TTY: (202) 418-0484.

SUPPLEMENTARY INFORMATION: In a recent Public Notice, 65 FR 33281 (May 23, 2000), the Common Carrier Bureau asked for supplemental filings on a proposal in this proceeding to require resellers to obtain their own carrier identification codes, establishing comment and reply comment dates of June 6 and June 13, 2000, respectively. See Common Carrier Bureau Asks Parties to Refresh Record and Seeks Additional Comment on Proposal to Require Resellers to Obtain Carrier Identification Codes, Public Notice, DA 00-1093, released May 17, 2000. On May 30, 2000, the Association of Communications Enterprises (ASCENT), formerly the Telecommunications Resellers Association, requested that the comment periods be extended by 30 days, to July 6 and July 13, 2000, respectively. ASCENT contends, among other things, that it is working with its members to compile data responsive to the Public Notice, but that the time allotted “has unfortunately proven inadequate[.]” ASCENT Request for Extension of Time at 3.

Based on consideration of ASCENT's filing, we conclude that a one-week extension of time is warranted. Therefore, we shall extend the respective comment and reply comment dates to June 13 and June 20, 2000. This extension will provide interested parties with more than three weeks from the date of release of the Public Notice in which to prepare their supplemental filings, a period that we believe should be sufficient to prepare the requested information.

For the foregoing reasons, pursuant to 47 CFR 1.46 of the Commission's rules, the Common Carrier Bureau hereby extends the comment and reply comment dates in this matter to June 13 and June 20, 2000, respectively.

Dated: June 5, 2000.
K. Michele Walters,
Associate Division Chief, Accounting Policy Division.

[FR Doc. 00-14519 Filed 6-8-00; 8:45 am]

BILLING CODE 6712-01-U